DEPARTMENT OF THE INTERIOR

Bureau of Land Management

[NM220-7130-ES; NM-50340-02]

Recreation and Public Purposes (R&PP) Act Classification; New Mexico

AGENCY: Bureau of Land Management, Interior.

ACTION: Notice of realty action.

SUMMARY: The Bureau of Land Management (BLM) has determined land located in Santa Fe County, New Mexico is suitable for classification for conveyance to Santa Fe County, under authority of the Recreation and Public Purposes Act, as amended (43 U.S.C. 869 et seq.) and 43 CFR subpart 2743.

DATES: Interested parties may submit comments to the BLM Taos Field Office Manager at the address below. Comments must be received by no later than January 16, 2007. Only written comments will be accepted.

ADDRESSES: Address all written comments concerning this Notice to Sam DesGeorges, BLM Taos Field Office Manager, 226 Cruz Alta Road, Taos, New Mexico 87571.

FOR FURTHER INFORMATION CONTACT: Lora Yonemoto, Realty Specialist, at the above address or (505) 758-8851.

SUPPLEMENTARY INFORMATION: The land is located at:

New Mexico Principal Meridian

T. 14 N., R. 9 E.,

Sec. 18, within S½SE¼SE¼.

The area described contains 5 acres, more or less, in Santa Fe County.

The site has been leased by Santa Fe County from the BLM and developed and used for solid waste disposal purposes since 1983. In 1989 sanitary landfill operations ceased, the landfill was closed, and the site was converted to a small solid waste transfer station. The transfer station is currently active. Santa Fe County has determined that retaining the existing 5-acre site is in their best economic interest and would provide an acceptable facility for use as a solid waste transfer site. Conveying title to the affected public land is consistent with current BLM land use planning.

The conveyance, when issued, would be subject to the following terms, conditions and reservations:

1. Provisions of the Recreation and Public Purposes Act and to all applicable regulations of the Secretary of the Interior.

2. A right-of-way for ditches and canals constructed by the authority of the United States.

3. The United States will reserve all minerals together with the right to prospect for, mine, and remove the minerals.

Additional detailed information concerning this Notice of Realty Action is available for review at the BLM Taos Field Office at the address listed above.

Upon publication of this notice in the Federal Register, the lands will be segregated from all other forms of appropriation under the public land laws, including the mining and mineral leasing laws, except for lease or conveyance under the Recreation and Public Purposes Act. Comments may be submitted regarding the proposed classification or conveyance of the land to the Field Office Manager, BLM Taos Field Office, for a period of 45 days from the date of publication of this notice in the Federal Register. You may submit comments regarding the suitability of the lands for a solid waste transfer station site. Comments on the classification are restricted to four subjects:

(1) Whether the land is physically suited for the proposal;

(2) whether the use will maximize the future use or uses of the land;

(3) whether the use is consistent with local planning and zoning; and

(4) if the use is consistent with State and Federal programs.

Comments may be submitted regarding the specific use proposed in the application and plan of development, and whether the BLM followed proper administrative procedures in reaching the decision.

Comments received during this process, including respondent's name, address, and other contact information, will be available for public review. Individual respondents may request confidentiality. If you wish to request that BLM consider withholding your name, address, and other contact information from public review or disclosure under the Freedom of Information Act, you must state this prominently at the beginning of your comment. The BLM will honor requests for confidentiality on a case-by-case basis to the extent allowed by law. The BLM will make available for public review, in their entirety, all comments submitted by businesses or organizations, including comments by individuals in their capacity as an official or representative of a business or organization.

The State Director will review any adverse comments. If no adverse comments are received, the classification will become effective 60 days from the date of publication of this notice in the Federal Register. The land will not be available for conveyance until after the classification becomes effective.

(Authority: 43 CFR part 2741).

Sam DesGeorges,
Field Office Manager.

[FR Doc. E6-20305 Filed 11-30-06; 8:45 am]

BILLING CODE 4310-FB-P